NUCLEAR REGULATORY COMMISSION

[Docket No. 50-458]

Entergy Operations, Inc.; Notice of Withdrawal of Application for Amendment to Facility Operating License

The U.S. Nuclear Regulatory Commission (the Commission) has granted the request of Entergy Operations, Inc., (the licensee) to withdraw its September 13, 2007, application for a proposed amendment to Facility Operating License No. NPF-47 for the River Bend Station, Unit 1, located in West Feliciana Parish, Louisiana.

The proposed amendment would have revised the facility Technical Specifications and the operating license. The proposed change would have added a License Condition 2.C to the Facility Operating License NPF-47 that allows River Bend Station, Unit 1, Technical Specifications surveillance intervals to be extended on a one-time basis for the 14th Fuel Cycle to account for the effects of a delayed refueling outage.

The Commission had previously issued a Notice of Consideration of Issuance of Amendment published in the Federal Register on October 9, 2007 (72 FR 57354). However, by letter dated October 3, 2007, the licensee withdrew the proposed change.

For further details with respect to this action, see the application for amendment dated September 13, 2007, and the licensee's letter dated October 3, 2007, which withdrew the application for license amendment. Documents may be examined, and/or copied for a fee, at the NRC(s Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 15th day of October 2007.
For the Nuclear Regulatory Commission.
Bhalchandra Vaidya,
Project Manager, Plant Licensing Branch IV, Division of Operating Reactor Licensing, Office of Nuclear Reactor Regulation.

[FR Doc. E7-20738 Filed 10-19-07; 8:45 am]

BILLING CODE 7590-01-P